NUCLEAR REGULATORY COMMISSION

[Docket Nos. 50-387 and 50-388; NRC-2009-0530]

PPL Susquehanna, LLC, Susquehanna Steam Electric Station, Units 1 and 2; Notice of Issuance of Renewed Facility Operating License Nos. NPF-14 and NPF-22 for an Additional 20-Year Period Record of Decision

Notice is hereby given that the U.S. Nuclear Regulatory Commission (the Commission) has issued Renewed Facility Operating License Nos. NPF-14 and NPF-22 to PPL Susquehanna, LLC, (licensee), the operator of the Susquehanna Steam Electric Station (SSES), Units 1 and 2. Renewed Facility Operating License Nos. NPF-14 and NPF-22 authorizes operation of SSES by the licensee at reactor core power levels not in excess of 3952 megawatts thermal for each unit, in accordance with the provisions of the SSES renewed license and its technical specifications.

The notice also serves as the record of decision for the renewal of facility operating license No. DPR-14 and DPR-22, consistent with Title 10 of the Code of Federal Regulations Section 51.103 (10 CFR 51.103). As discussed in the final Supplemental Environmental Impact Statement (FSEIS) for SSES, dated March 2009, the Commission has considered a range of reasonable alternatives that included generation from oil, wind, solar, hydropower, geothermal, wood waste, municipal solid waste, other biomass-derived fuels, fuel cells, delayed retirement, and conservation measures. The factors considered in the record of decision can be found in the supplemental environmental impact statement (SEIS) for SSES.

SSES, Units 1 and 2, are boiling-water reactors located seven miles northeast of Berwick, Pennsylvania. The application for the renewed licenses complied with the standards and requirements of the Atomic Energy Act of 1954, as amended (the Act), and the Commission's regulations. As required by the Act and the Commission's regulations in Title 10 of the Code of Federal Regulations (10 CFR), Chapter 1, the Commission has made appropriate findings, which are set forth in the license. Prior public notice of the action involving the proposed issuance of the renewed licenses and of an opportunity for a hearing regarding the proposed issuance of the renewed licenses were published in the Federal Register on November 2, 2006 (71 FR 64566).

For further details with respect to this action, see: (1) PPL Susquehanna, LLC, license renewal application for SSES dated September 13, 2006, as supplemented by letters through July 28, 2009; (2) the Commission's safety evaluation report (NUREG-1931), published in November 2009; (3) the licensee's updated safety analysis report; and (4) the Commission's final environmental impact statement (NUREG-1437, Supplement 35), for SSES, Units 1 and 2, published in March 2009. These documents are available at the U. S. Nuclear Regulatory Commission's (NRC) Public Document Room, One White Flint North, 11555 Rockville Pike, Rockville, Maryland 20852, and can be viewed from the NRC Public Electronic Reading Room at http://www.nrc.gov/reading-rm/adams.html.

Copies of renewed facility operating license Nos. NPF-14 and NPF-22 may be obtained by writing to the U.S. Nuclear Regulatory Commission, Washington, DC 20555-0001, Attention: Director, Division of License Renewal. Copies of the SSES, Units 1 and 2, safety evaluation report (NUREG-1931) and the final environmental impact statement (NUREG-1437, Supplement 35) may be purchased from the National Technical Information Service, U.S. Department of Commerce, Springfield, Virginia 22161 (http://www.ntis.gov), 703-605-6000, or Attention: Superintendent of Documents, U.S. Government Printing Office, P.O. Box 371954 Pittsburgh, PA 15250-7954 (http://www.gpoaccess.gov), 202-512-1800.

All orders should clearly identify the NRC publication number and the requestor's Government Printing Office deposit account number or Visa or MasterCard number and expiration date.

Dated at Rockville, Maryland, this 24th day of November, 2009.
For the Nuclear Regulatory Commission.
Donnie J. Ashley,
Chief, Projects Branch 1, Division of License Renewal, Office of Nuclear Reactor Regulation.

[FR Doc. E9-28816 Filed 12-1-09; 8:45 am]

BILLING CODE 7590-01-P